DEPARTMENT OF THE INTERIOR

Bureau of Land Management

[ID-097-1220-MA]

Notice of Emergency Closure of Public Land to Certain Uses in Elmore County, ID

AGENCY: Bureau of Land Management, Interior.

ACTION: Notice, emergency closure.

SUMMARY: Notice is served that 988 acres of public land is closed to the use of motorized vehicles north of the Pasadena Valley Road. The public land is located approximately two (2) miles east of Glenns Ferry, Idaho, known as the Paradise or Pasadena Off-Highway Vehicle (OHV) area (north end). This closure will be in effect beginning on August 1, 2002, and will expire on August 1, 2004. During this closure period, public consultation will be implemented and a process for completing a management plan for the area will be developed. A supplemental rule could be implemented for permanent closure of the area. OHV use includes all types of motor vehicles except for those authorized for fire fighting, law enforcement, and administrative operations or other activities authorized by the BLM.

The issues that have been occurring during the past three years have primarily been related to safety concerns involving OHV's crossing and traveling on the Pasadena Valley Road. This safety issue has consumed a considerable amount of County, State, and BLM law enforcement staff time in assuring public safety along the road. The Elmore County Sheriff's Department has requested that this area be closed. Complaints, verbal and written, from the local residents have been received on a regular basis pertaining to safety, noise levels and degradation of the slopes where hill climbing takes place.

This emergency closure is necessary for public safety and to protect public land and adjacent private property. Closure signs will be posted at main entry points and trails in the area. Maps of the closure area and more detailed information are on file at the Jarbidge Field Office.

FOR FURTHER INFORMATION CONTACT: Eddie Guerrero, Field Manager or Max Yingst, Outdoor Recreation Planner, BLM, Jarbidge Field Office, 2620 Kimberly Road, Twin Falls, ID, 83301-7975 or call (208) 736-2350.

SUPPLEMENTARY INFORMATION: This order affects public lands in Elmore County, Idaho thus described:

Boise Meridian

T.5S., R.10E.,

Secs. 25, 26, 27;

T.5S., R. 11E.,

Secs. 30, 31

This closure will not affect vehicle traffic on Pasadena Valley Road, Coblantz Road, Thompson Hill Road, and Black Mesa Road. This closure does not affect the OHV site south of the Pasadena Valley Road or in the Rosevear Gulch area.

Authority for this action is contained in Title 43, Code of Federal Regulations, Subpart 8341, Section 2 (43 CFR 8341.2) and Subpart 8364, Section 1 (43 CFR 8364.1). Any person who fails to comply with this closure is subject to citation or arrest and a fine up to $1,000.00 or imprisonment not to exceed 12 months, or both. Such violations may also be subject to the enhanced fines provided for by Title 18 U.S.C. 3571.

Edward Guerrero,
Field Manager.

[FR Doc. 02-23043 Filed 9-10-02; 8:45 am]

BILLING CODE 4310-GG-P